DEPARTMENT OF AGRICULTURE

Forest Service

Cherokee Resource Advisory Committee

AGENCY: Forest Service, USDA.

ACTION: Notice of meeting.

SUMMARY: The Cherokee Resource Advisory Committee will meet in Knoxville, Tennessee. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 14, 2012 from 1:00 p.m. to 4:30 p.m.

ADDRESSES: The meeting will be held at the USDA Forest Service—Forest Inventory and Analysis Office at 4700 Old Kingston Pike, Knoxville, TN 37919.

Written comments may be submitted as described under Supplementary Information. All comments, including names and addresses when provided, are placed in the record and are available for public inspection and copying. The public may inspect comments received at the Unaka Ranger District Office at 4900 Asheville Highway SR70, Greeneville, TN 37743. Please call ahead to 423-638-4109 to facilitate entry into the building to view comments.

FOR FURTHER INFORMATION CONTACT: Terry McDonald, RAC Coordinator, Cherokee National Forest, 423-476-9729, twmcdonald@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Review the status of approved projects for FY08-FY11; Recommend projects for FY12. Anyone who would like to bring related matters to the attention of the committee may file written statements with the committee staff before the meeting. The agenda will include time for people to make oral statements. Individuals wishing to make an oral statement should request in writing by September 7, 2012 to be scheduled on the agenda. Written comments and requests for time for oral comments must be sent to U.S. Forest Service, 2800 Ocoee Street North, Cleveland, TN 37312, ATTN: Terry McDonald, or by email to twmcdonald@fs.fed.us, or via facsimile to 423-476-9721. A summary of the meeting will be posted at http://fs.usda.gov/cherokee within 21 days of the meeting.

Meeting Accommodations: If you require sign language interpreting, assistive listening devices, or other reasonable accommodation please request this in advance of the meeting by contacting the person listed in the section titled For Further Information Contact.

All reasonable accommodation requests are managed on a case by case basis.

Dated: August 15, 2012.
William P. Lisowsky,
Acting Forest Supervisor, Cherokee National Forest.

[FR Doc. 2012-20474 Filed 8-20-12; 8:45 am]

BILLING CODE 3410-11-P